NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 26, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Agriculture, Natural Resources Conservation Service (N1-114-98-1, 3 items, 1 temporary item). Copies of a magazine published by the Soil Conservation Service, 1935 through 1975. Copies of this publication are already in the National Archives. This schedule also provides for the permanent retention of records relating to surveys conducted during the 1930s and 1940s.

2. Department of the Army, Agency-wide (N1-AU-98-10, 2 items, 2 temporary items). Records relating to access to privacy communications systems messages. Included are requests, approvals, disapprovals, documents stemming from investigative or judicial proceedings, and electronic copies of documents created using electronic mail and word processing. This schedule reduces the retention period for recordkeeping copies of these documents, which were previously approved for disposal.

3. Department of the Army, Agency-wide (N1-AU-99-8, 4 items, 4 temporary items). Records relating to the transfer of technology between designated Army laboratories and non-Federal collaborators, including copies of cooperative research and development agreements, patent license agreements, and related policy documents. This schedule also includes a database of agreements, working files, and electronic copies of documents created using electronic mail and word processing.

4. Department of the Army, Agency-wide (N1-AU-00-8, 2 items, 2 temporary items). Documents relating to the administration of insurance programs and retirement plans for employees paid from nonappropriated funds. This schedule authorizes the agency to change the format of records from microform to electronic image and also increases the retention period for recordkeeping copies, which were previously approved for disposal.

5. Department of Defense, Defense Intelligence Agency (N1-373-00-1, 21 items, 20 temporary items). Records of the agency's Missile and Space Intelligence Center (MSIC), including intelligence reference collections, files relating to management of threat simulator development, intelligence production management files, equipment tracking receipts, project development files, and ballistic missile performance databases. Also included are electronic copies of documents created using electronic mail and word processing. Proposed for permanent retention are records related to the non-proliferation of ballistic missiles. Finished intelligence produced by MSIC was previously approved for permanent retention.

6. Department of Defense, National Imagery and Mapping Agency (N1-537-00-2, 110 items, 110 temporary items). Paper and electronic records relating to human resources, including electronic copies of documents created using electronic mail and word processing. Records relate to such subjects as overall human resources policies and programs, pay and allowances, recruitment and hiring of staff, diversity and equal employment opportunity programs, assignments and promotions, labor relations, awards, benefits, and injury compensation.

7. Department of Defense, National Reconnaissance Office (N1-525-00-1, 13 items, 13 temporary items). Records, including electronic copies of documents created using electronic mail and word processing, that relate to operational management matters (excluding records that pertain to reconnaissance systems), community service programs, personnel security cases, awards and decorations, and employee assistance programs. This schedule authorizes the agency to apply disposition instructions to records regardless of media.

8. Department of Energy, Agency-wide (N1-434-98-9, 7 items, 7 temporary items). Records relating to accountable officers' account files, including monthly memorandum reports, correspondence on auditing matters, and audit files, which were previously approved for disposal. Also included are electronic copies of documents created using electronic mail and word processing.

9. Department of Justice, Executive Office for U.S. Attorneys (N1-118-99-2, 6 items, 5 temporary items). Records relating to evaluations of the performance of U.S. Attorneys Offices. Included are such records as work papers, correspondence relating to issues identified during the evaluation process, reports and U.S. Attorneys' responses, and electronic copies of documents created using electronic mail and word processing. Recordkeeping copies of final reports forwarded to the Office of the Inspector General for further action are proposed for permanent retention.

10. Department of Justice, Federal Bureau of Investigation (N1-65-00-2, 1 item, 1 temporary item). Criminal fingerprint cards and related records for individuals with multiple arrests born prior to January 1, 1929. This schedule reduces the retention period for these records, which were previously approved for disposal.

11. Department of Labor, Office of Workers' Compensation Programs (N1-217-00-1, 7 items, 7 temporary items). Case files relating to Federal employees who sustain injuries or illnesses in the course of their employment. Included are reports, claims, payment records, and claim determinations or rulings as well as electronic copies of documents created using electronic mail and word processing. This schedule reduces the retention period for case files, which were previously approved for disposal, in both paper and electronic format. It also authorizes the agency to destroy paper case records after they have been input into the electronic system.

12. Department of the Navy, Agency-wide (N1-NU-98-2, 130 items, 112 temporary items). Records of the Naval Criminal Investigative Service and other Navy law enforcement activities. Included are records relating to counterintelligence sources, security briefings of personnel prior to travel, operations security surveys, polygraph programs, the issuance of credentials and passes, the custody and control of evidence gathered in criminal investigations, and forensic lab activities. Also included are electronic copies of documents created using electronic mail and word processing. This schedule also changes descriptions, retention periods, and retirement instructions for previously scheduled series and authorizes the agency to maintain records in media other than paper.

13. Department of the Treasury, United States Mint (N1-104-99-1, 20 items, 17 temporary items). Copies of audit records accumulated by offices not responsible for their compilation or for monitoring, financial statements, contract audits, and auditing general correspondence files. This schedule also modifies descriptions, retention periods, or retirement instructions for several series of previously scheduled audit-related records and also includes electronic copies of documents created using electronic mail and word processing. Records proposed for permanent retention include recordkeeping copies of annual gold audit records accumulated by compiling and monitoring offices and audits conducted on programs related to agency products, such as coins and medals.

14. Department of the Treasury, United States Mint (N1-104-99-2, 18 items, 15 temporary items). Financial planning and analysis records. Included are such records as financial statements and reports documenting the allocation of funds, congressional budget hearing records, and financial planning and analyses general correspondence files. Also included are electronic copies of documents created using electronic mail and word processing. This schedule also modifies the descriptions and retirement instructions for such records as budget submissions to the Department of the Treasury and budget work papers, which were previously approved for disposal. Final versions of annual budget submissions, cost production analyses reports for Mint products, and selected cost analysis benchmark studies are proposed for permanent retention.

15. Environmental Protection Agency, Agency-wide (N1-412-99-1, 8 items, 5 temporary items). Software and image files for the Superfund Document Management System. This imaging system serves as an index to the documents contained in the agency's permanent Superfund Site Files. Records proposed for permanent retention include an electronic index for the Superfund Site Files, electronic annotations regarding the content and context of the Superfund documents, and supporting documentation for the index and annotations records.

16. Federal Energy Regulatory Commission, Agency-wide (N1-138-00-5, 3 items, 3 temporary items). Correspondence providing informal staff advice, interpretations, and advisory opinions which do not represent the official views of the Commission and do not set precedent for future cases. Also included are electronic copies of records created using electronic mail and word processing.

17. Federal Energy Regulatory Commission, Office of Markets, Tariffs and Rates (N1-138-00-6, 6 items, 6 temporary items). Reports and submissions, discontinued prior to 1996, pertaining to such matters as gas storage, interstate pipelines, gas procurement, gas sale and resale, and refunds made by natural gas producers. These reports, which were previously approved for disposal, are proposed for immediate destruction.

18. Nuclear Regulatory Commission (N1-431-99-8, 2 items, 2 temporary items). Older records dating from the 1970s and 1980s. Records consist of draft Energy Department reports sent to the agency for review that do not include any annotations or comments and agency copies of Commission on Three Mile Island depositions and related Senate hearings, which are duplicates of Commission records already in the National Archives.

19. Social Security Administration, (N1-47-00-2, 2 items, 1 temporary item). Duplicate copies of issuances used for reference, including congressional committee prints, hearings and testimony, textbooks, and non-government conference proceedings. Records were accumulated by the Social Security Board and Federal Security Agency during the period 1936-1986. Proposed for permanent retention are annual reports of the Social Security Board and Federal Security Agency as well as official publications of the Department of Health, Education, and Welfare related to public assistance programs.

Dated: May 1, 2000.
Michael J. Kurtz,
Assistant Archivist for Record Services—Washington, DC.

[FR Doc. 00-11596 Filed 5-9-00; 8:45 am]

BILLING CODE 7515-01-P